OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: M. Lamary, Group Manager, Executive Resources Services Group, Center for Human Resources, Division for Human Capital Leadership and Merit System Accountability, 202-606-2246.

SUPPLEMENTARY INFORMATION: Appearing in the listing below are the individual authorities established under Schedules A, B, and C between November 1, 2008, and November 30, 2008. Future notices will be published on the fourth Tuesday of each month, or as soon as possible thereafter. A consolidated listing of all authorities as of September 30 is published each year.

Schedule A

No Schedule A appointments were approved for November 2008.

Schedule B

No Schedule B appointments were approved for November 2008.

Schedule C

The following Schedule C appointments were approved during November 2008.

Section 213.3303 Executive Office of the President

Section 213.3305 Department of the Treasury

DYGS00441 Director of Outreach to the Deputy Assistant Secretary (Financial Education). Effective November 05, 2008.

DYGS00488 Executive Assistant to the Special Envoy for China and the Strategic Economic Dialogue. Effective November 07, 2008.

Section 213.3306 Department of Defense

DDGS17174 Personal and Confidential Assistant to the Special Assistant to the Secretary of Defense for White House Liaison. Effective November 13, 2008.

DDGS17182 Confidential Assistant to the Under Secretary of Defense (Comptroller). Effective November 21, 2008.

Section 213.3312 Department of the Interior

DIGS01120 Special Assistant to the Director—Scheduling and Advance. Effective November 13, 2008.

DIGS01130 Director, External Affairs to the Chief of Staff. Effective November 13, 2008.

DIGS01131 Director, Intergovernmental Affairs to the Chief of Staff. Effective November 14, 2008.

Section 213.3316 Department of Health and Human Services

DHGS60522 Confidential Assistant to the Deputy Secretary, Health and Human Services. Effective November 07, 2008.

Section 213.3325 United States Tax Court

JCGS60056 00301 Chambers Administrator to the Chief Judge. Effective November 07, 2008.

Section 213.3331 Department of Energy

DEGS00681 White House Liaison to the Chief of Staff. Effective November 06, 2008.

DEGS00682 Special Assistant to the Assistant Secretary for Congressional and Intergovernmental Affairs. Effective November 21, 2008.

Section 213.3332 Small Business Administration

SBGS00672 Special Assistant to the Chief of Staff. Effective November 05, 2008.

SBGS00653 Deputy General Counsel to the General Counsel. Effective November 13, 2008.

SBGS00674 Staff Assistant to the Associate Administrator for the Office of Field Operations. Effective November 25, 2008.

Section 213.3337 General Services Administration

GSGS60120 Public Affairs Specialist to the Associate Administrator for Citizen Services and Communications. Effective November 21, 2008.

Section 213.3339 United States International Trade Commission

TCGS60019 Staff Assistant (Economist) to a Commissioner. Effective November 25, 2008.

TCGS60036 Staff Assistant (Economist) to the Chairman. Effective November 25, 2008.

Section 213.3343 Farm Credit Administration

FLOT00027 Director to the Chairman, Farm Credit Administration Board. Effective November 13, 2008.

Section 213.3384 Department of Housing and Urban Development

DUGS60580 Congressional Relations Specialist to the Deputy Assistant Secretary for Congressional Relations. Effective November 13, 2008.

Section 213.3396 National Transportation Safety Board

TBGS91126 Confidential Assistant to the Vice Chairman. Effective November 13, 2008.

TBGS91126 Confidential Assistant to the Vice Chairman. Effective November 13, 2008.

Authority: 5 U.S.C. 3301 and 3302; E.O. 10577, 3 CFR 1954-1958 Comp., p. 218.

Office of Personnel Management.
Howard Weizmann,
Deputy Director.

[FR Doc. E9-406 Filed 1-12-09; 8:45 am]

BILLING CODE 6325-39-P